FEDERAL ELECTION COMMISSION

Sunshine Act Notices

Date and Time: Tuesday, January 10, 2006 at 10 a.m.

Place: 999 E Street, NW., Washington, DC.

Status: The meeting will be closed to the public.

Items to be Discussed: Compliance matters pursuant to 2 U.S.C. 437g. Audits conducted pursuant to 2 U.S.C. 437g, 438(b), and Title 26, U.S.C. Internal personnel rules and procedures or matters affecting a particular employee.

Date and Time: Thursday, January 12, 2006 at 10 a.m.

Place: 999 E Street, NW., Washington, DC (ninth floor).

Status: This meeting will be open to the public.

Items to be Discussed: Correction and Approval of Minutes. Final Rules and Explanation and Justification for the Definition of “Agent.” Routine Administrative Matters.

FOR FURTHER INFORMATION CONTACT: Mr. Robert Biersack, Press Officer, Telephone (202) 694-1220.

Mary W. Dove,
Secretary of the Commission.

[FR Doc. 06-117 Filed 1-3-06; 2:54 pm]

BILLING CODE 6715-01-M